DEPARTMENT OF COMMERCE

National Oceanic and Atmospheric Administration

50 CFR Part 648

[Docket No. 0910051338-0151-02]

RIN 0648-XZ44

Fisheries of the Northeastern United States; Northeast Multispecies Fishery; Correction to Cod Landing Limit for Handgear A Vessels in the Common Pool Fishery

AGENCY: National Marine Fisheries Service (NMFS), National Oceanic and Atmospheric Administration (NOAA), Commerce.

ACTION: Temporary rule; inseason adjustment of landing limit.

SUMMARY: This action addresses an oversight in a previous inseason action and decreases the landing limit for cod to 50 lb (22.7 kg) per trip for NE multispecies limited access Handgear A (HA) permitted vessels fishing in the common pool fishery for the remainder of the 2010 fishing year (FY) (through April 30, 2011). This action is authorized under the authority of the Magnuson-Stevens Fishery Conservation and Management Act (Magnuson-Stevens Act), and is required by the regulations implementing Amendment 13, Amendment 16, and Framework Adjustment 44 (FW 44) to the NE Multispecies Fishery Management Plan (FMP).

DATES: Effective October 21, 2010, through April 30, 2011.

FOR FURTHER INFORMATION CONTACT: Douglas Potts, Fishery Policy Analyst, (978) 281-9341, fax (978) 281-9135.

SUPPLEMENTARY INFORMATION: Regulations governing possession and landing limits for HA vessels fishing under common pool regulations at § 648.82(b)(6) state that “The [300 lb (136.1 kg)] cod trip limit shall be adjusted proportionally to the trip limit for [Gulf of Maine (GOM)] cod (rounded up to the nearest 50 lb (22.7 kg)), as specified in § 648.86(b)). An inseason action published in the Federal Register on September 27, 2010 (75 FR 59154), reduced the GOM cod trip limit for NE multispecies common pool vessels fishing under a day-at-sea (DAS) to 100 lb (45.4 kg) per DAS up to 1,000 lb (453.6 kg) per trip, from the original 800 lb (362.9 kg) per DAS up to 4,000 lb (1,814.4 kg) per trip limit, a 87.5 percent reduction. Therefore, the HA cod trip limit should have been reduced 87.5 percent from 300 lb (136.1 kg) to 37.5 lb (17.0 kg), and rounded up to 50 lb (22.7 kg)). The HA cod limit applies to both the GOM and Georges Bank (GB) stocks of cod. Additional details regarding the need to reduce the common pool GOM cod in order to decrease the likelihood of harvest exceeding the subcomponent of the annual catch limit (ACL) allocated to the common pool, and the authority of the Administrator, Northeast (NE) Region, NMFS (Regional Administrator) to take such action, are stated in the action published on September 27, 2010 (75 FR 59154), and are not repeated here.

This action therefore, reduces the common pool cod trip limit for HA vessels to 50 lb (22.7 kg) from 100 lb (45.4 kg). Catch will be closely monitored through dealer-reported landings, vessel monitoring system (VMS) catch reports, and other available information. Further inseason adjustments to decrease the trip limit, or to increase differential DAS measures, may be considered, based on updated catch data and projections. Conversely, if the common pool sub-ACL is projected to be under-harvested by the end of FY 2010, in-season adjustments, such as increasing the trip limit for the remainder of FY2010, will be considered.

Classification

This action is authorized by 50 CFR part 648 and is exempt from review under Executive Order 12866.

Pursuant to 5 U.S.C. 553(b)(3)(B) and (d)(3), there is good cause to waive prior notice and opportunity for public comment, as well as the delayed effectiveness for this action, because notice, comment, and a delayed effectiveness would be impracticable and contrary to the public interest. The regulations at §§ 648.82(b)(6) require that the HA cod trip limit be adjusted proportionally to the trip limit for GOM cod. By an administrative error, the inseason action published on September 27, 2010, reduced the GOM cod trip limit but failed to address the required proper reduction to the HA cod trip limit. This action would correct this oversight by reducing the cod trip limit for NE multispieces HA vessels in the common pool fishery from 100 lb/trip to 50 lb/trip.

It is important to take this action immediately due to the oversight in not effecting this trip limit reduction earlier and the concern that any delay in effectiveness would further disadvantage vessels subject to the lower trip limits implemented on September 27, 2010. Providing for prior notice and comment for this action are unnecessary because the action is non-discretionary and NMFS could not adjust the measure based on comments received. The time necessary to provide delayed effectiveness would prevent NMFS from implementing the reduced trip limit in a timely manner and would increase the likelihood of exceeding the common pool sub-ACL. Attainment of any of the common pool sub-ACLs prior to the end of the FY on April 30, 2011, would result in accountability measures being put in place for the common pool in FY 2011. These restrictions could result in the loss of yield of other valuable species caught by vessels in the common pool.

Authority: 16 U.S.C. 1801 et seq.

Dated: October 15, 2010.
Carrie Selberg,
Acting Director, Office of Sustainable Fisheries, National Marine Fisheries Service.

[FR Doc. 2010-26504 Filed 10-18-10; 4:15 pm]

BILLING CODE 3510-22-P